DEPARTMENT OF ENERGY

Federal Energy Regulatory Commission

18 CFR Part 40

[Docket No. RM08-7-000]

Modification of Interchange and Transmission Loading Relief Reliability Standards; and Electric Reliability Organization Interpretation of Specific Requirements of Four Reliability Standards

May 16, 2008.

AGENCY: Federal Energy Regulatory Commission, DOE.

ACTION: Supplemental Notice of proposed rulemaking.

SUMMARY: On April 21, 2008, the Commission issued a Notice of Proposed Rulemaking (NOPR) that proposes, inter alia, to approve interpretations of specific requirements of Commission-approved Reliability Standards submitted to the Commission for approval by the North American Electric Reliability Corporation (NERC). Pursuant to section 215 of the Federal Power Act (FPA), the Commission supplements the NOPR by proposing to approve NERC's modified interpretation of Reliability Standard BAL-005-0 (Automatic Generation Control), Requirement R17.

DATES: Comments for this Supplemental Notice of Proposed Rulemaking are due June 12, 2008, concurrent with the comment due date for the NOPR issued on April 21, 2008.

ADDRESSES: You may submit comments, identified by docket number by any of the following methods:

• Agency Web Site: http://www.ferc.gov. Documents created electronically using word processing software should be filed in native applications or print-to-PDF format and not in a scanned format.

• Mail/Hand Delivery. Commenters unable to file comments electronically must mail or hand deliver an original and 14 copies of their comments to: Federal Energy Regulatory Commission, Secretary of the Commission, 888 First Street, NE., Washington, DC 20426.

FOR FURTHER INFORMATION CONTACT:

Patrick Harwood (Technical Information), Office of Electric Reliability, Federal Energy Regulatory Commission, 888 First Street, NE., Washington, DC 20426.

Christopher Daignault (Legal Information), Office of the General Counsel, Federal Energy Regulatory Commission, 888 First Street, NE., Washington, DC 20426.

SUPPLEMENTARY INFORMATION:

Supplemental Notice of Proposed Rulemaking

May 16, 2008.

1. On April 21, 2008, the Commission issued a Notice of Proposed Rulemaking (NOPR) that proposes, inter alia, to approve interpretations of specific requirements of Commission-approved Reliability Standards submitted to the Commission for approval by the North American Electric Reliability Corporation (NERC).¹ Pursuant to section 215 of the Federal Power Act (FPA),² the Commission supplements the NOPR by proposing to approve NERC's modified interpretation of Reliability Standard BAL-005-0 (Automatic Generation Control), Requirement R17.

¹ Modification of Interchange and Transmission Loading Relief Reliability Standards; and Electric Reliability Organization Interpretation of Specific Requirements of Four Reliability Standards, 73 FR 22,856 (Apr. 28, 2008), FERC Stats. & Regs. ¶ 32,632 (2008).

² 16 U.S.C. 824o (Supp. V 2005).

I. Background

A. Regulatory History

2. On December 19, 2007, NERC submitted for Commission approval interpretations of requirements in four Commission-approved Reliability Standards, including an interpretation of BAL-005-0, Requirement R17.³ On April 15, 2008, NERC submitted a request to withdraw the interpretation of Requirement R17 and substitute a revised interpretation of the same requirement (referred to by NERC as “interpretation (b)”).

³ The Commission approved BAL-005-0 in Order No. 693. Mandatory Reliability Standards for the Bulk-Power System, Order No. 693, 72 FR 31,452, FERC Stats. & Regs. ¶ 31,242, at P 396 (2007), order on reh'g, Order No. 693-A, 120 FERC ¶ 61,053 (2007).

3. On April 21, 2008, the Commission issued a NOPR in this proceeding. In the NOPR, the Commission noted that NERC submitted a modified interpretation of BAL-005-0 on April 15, 2008. The Commission stated that it did not plan to act on the initial interpretation and would address “interpretation (b)” at a future time.

B. NERC's Proposed Interpretation

4. Requirement R17 of Reliability Standard BAL-005-0 obligates each balancing authority to “at least annually check and calibrate its time error and frequency devices against a common reference.” This is one aspect of ensuring the accurate calculation of area control error (ACE). Requirement R17 states that a balancing authority must adhere to minimum accuracies in terms of ranges for the following devices: Digital frequency transducer, voltage transducer, remote terminal unit, potential transformer, and current transformer.

5. NERC received a request for interpretation regarding the type and location of the equipment to which Requirement R17 applies. In response, a NERC task force developed, and the NERC board of trustees approved, interpretation (b), which provides that BAL-005-0, Requirement R17

applies only to the time error and frequency devices that provide, or in the case of back-up equipment may provide, input into the reporting or compliance ACE equation or provide real-time time error or frequency information to the system operator. Frequency inputs from other sources that are for reference only are excluded. The time error and error frequency measurement devices may not necessarily be located in the system operations control room or owned by the Balancing Authority; however the Balancing Authority has the responsibility for the accuracy of the frequency and time error devices. * * *

New or replacement equipment that provides the same functions noted above requires the same calibrations. Some devices used for time error and frequency measurement cannot be calibrated as such. In this case, these devices should be cross-checked against other properly calibrated equipment and replaced if the devices do not meet the required level of accuracy.

II. Discussion

6. The Commission proposes to approve NERC's interpretation (b) of BAL-005-0, Requirement R17. The Commission agrees that, as stated in interpretation (b), time error and frequency devices that serve as input into the reporting or compliance of the ACE equation, whether inside or outside the operations control room, must be annually checked and calibrated. In addition, the Commission notes that tie-line megawatt metering data is another important aspect of ensuring the accurate calculation of area control error (ACE), and interpretation (b) limits the specific accuracy requirements of Requirement R17 to frequency and time error measurement devices. We seek comment on whether interpretation (b): (1) Could decrease the accuracy of frequency and time-error measurements by not requiring calibration of tie-line megawatt metering devices; (2) what conditions would preclude the requirement to calibrate these devices; and (3) whether the accuracy of these devices is assured by other requirements within BAL-005-0 in the absence of calibration.

III. Comment Procedures

7. The Commission invites interested persons to submit comments on the matters and issues proposed in this notice to be adopted, including any related matters or alternative proposals that commenters may wish to discuss. Comments are due June 12, 2008, concurrent with the comment due date for the NOPR issued on April 21, 2008. Comments must refer to Docket No. RM08-7-000, and must include the commenter's name, the organization they represent, if applicable, and their address in their comments.

8. The Commission encourages comments to be filed electronically via the eFiling link on the Commission's Web site at http://www.ferc.gov. The Commission accepts most standard word processing formats. Documents created electronically using word processing software should be filed in native applications or print-to-PDF format and not in a scanned format. Commenters filing electronically do not need to make a paper filing.

9. Commenters that are not able to file comments electronically must send an original and 14 copies of their comments to: Federal Energy Regulatory Commission, Secretary of the Commission, 888 First Street, NE., Washington, DC 20426.

10. All comments will be placed in the Commission's public files and may be viewed, printed, or downloaded remotely as described in the Document Availability section below. Commenters on this proposal are not required to serve copies of their comments on other commenters.

IV. Document Availability

11. In addition to publishing the full text of this document in the Federal Register, the Commission provides all interested persons an opportunity to view and/or print the contents of this document via the Internet through FERC's Home Page (http://www.ferc.gov) and in FERC's Public Reference Room during normal business hours (8:30 a.m. to 5 p.m. Eastern time) at 888 First Street, NE., Room 2A, Washington, DC 20426.

12. From FERC's Home Page on the Internet, this information is available on eLibrary. The full text of this document is available on eLibrary in PDF and Microsoft Word format for viewing, printing, and/or downloading. To access this document in eLibrary, type the docket number excluding the last three digits of this document in the docket number field.

13. User assistance is available for eLibrary and the FERC's Web site during normal business hours from FERC Online Support at (202) 502-6652 (toll free at 1-866-208-3676) or e-mail at ferconlinesupport@ferc.gov, or the Public Reference Room at (202) 502-8371, TTY (202) 502-8659. E-mail the Public Reference Room at public.referenceroom@ferc.gov.

List of Subjects in 18 CFR Part 40

Electric power, Electric utilities, Reporting and recordkeeping requirement.

By direction of the Commission.
Kimberly D. Bose,
Secretary.

[FR Doc. E8-11694 Filed 5-23-08; 8:45 am]

BILLING CODE 6717-01-P